DEPARTMENT OF HEALTH AND HUMAN SERVICES

Health Care Financing Administration

42 CFR Part 405

[HCFA-1002-N3]

Medicare Program; Meeting of the Negotiated Rulemaking Committee on the Ambulance Fee Schedule

AGENCY: Health Care Financing Administration (HCFA), HHS.

ACTION: Notice of meeting.

SUMMARY: In accordance with section 10(a) of the Federal Advisory Committee Act, this notice announces the date and location for the final meeting of the Negotiated Rulemaking Committee on the Ambulance Fee Schedule. This meeting is open to the public.

The purpose of this committee is to develop a proposed rule that would establish a fee schedule for the payment of ambulance services under the Medicare program through negotiated rulemaking, as mandated by section 4531(b) of the Balanced Budget Act of 1997 (BBA).

DATES: The final meeting is scheduled for Monday, February 14, 2000 from 8:30 a.m. until 6:00 p.m., e.s.t.

ADDRESSES: The meeting will be held at the Health Care Financing Administration, Grand Auditorium, 7500 Security Boulevard, Baltimore, Maryland 21244; (410) 786-1000.

FOR FURTHER INFORMATION CONTACT: In order to gain access to the building if you are interested in attending this final meeting, it is important that you notify the agency contact listed below by February 10, 2000. If you fail to notify the agency contact by February 10, 2000 of your intent to attend the meeting, you may be delayed in entering the building. The agency contact is Margot Blige ((410) 786-4642 or E-mail: MBlige@hcfa.gov).

Inquiries regarding this meeting should be addressed to Bob Niemann ((410) 786-4569) or Margot Blige ((410) 786-4642) for general issues related to ambulance services, or to Lynn Sylvester ((202) 606-9140) or Elayne Tempel ((207) 780-3408), facilitators.

SUPPLEMENTARY INFORMATION: Section 4531(b)(2) of the BBA added a new section 1834(l) to the Social Security Act (the Act) that mandates by January 1, 2000, that we implement a national fee schedule for payment of ambulance services furnished under Medicare Part B. The fee schedule is to be established through negotiated rulemaking. Section 4531(b)(2) of the BBA also provides that, in establishing the fee schedule, we will—

• Establish mechanisms to control increases in expenditures for ambulance services under Part B of the program;

• Establish definitions for ambulance services that link payments to the type of services furnished;

• Consider appropriate regional and operational differences;

• Consider adjustments to payment rates to account for inflation and other relevant factors; and

• Phase in the fee schedule in an efficient and fair manner.

The Negotiated Rulemaking Committee on the Ambulance Fee Schedule has been established to provide advice and make recommendations to us with respect to the text and content of a proposed rule that would establish a fee schedule for the payment of ambulance services under Medicare Part B.

The Committee's first and second meetings were for organizational purposes solely. No significant decisions were made in these two meetings.

The Committee's third meeting was held on May 24 and May 25, 1999. At that meeting, the Committee heard presentations from our staff, including a data presentation. The Committee requested another presentation by our Office of the Actuary (OACT) to obtain clarification about its calculation of the fee schedule payment cap. Additionally, a Medical Issues workgroup was formed.

The Committee's fourth meeting was held on June 28 and June 29, 1999. At that meeting, a staff member from OACT made a presentation clarifying that budget neutrality will be evaluated by using all ambulance claims for the most current year and comparing the results of the proposed models with those paid claims. Our staff presented more historical Medicare hospital and supplier ambulance billing data. Consensus was reached on one possible basic structure for the fee schedule. We indicated that the fee schedule must be effective as soon as operationally possible after January 1, 2000. Subcommittees were formed to produce proposals by July 19, 1999 for—

(1) a rural/urban adjustment; and

(2) a fee schedule model based on the structure agreed to at the June meeting, combined with relative values. These proposals, along with the results of the medical issues workgroup, were to serve as the basis for the Committee's next meeting.

The Committee's fifth meeting was held on August 2 and August 3, 1999. At that meeting the Committee heard presentations from our staff on the Medicare Physician Fee Schedule's Geographic Practice Cost Index (GPCI) and the hospital wage index. The Committee is considering the GPCI and hospital wage index for possible use as a geographic cost adjuster for the ambulance fee schedule. The second presenter, a member of the our negotiated rulemaking team, presented additional historical Medicare hospital and ambulance supplier billing data. The Committee was advised in a letter signed by our Deputy Administrator, Michael M. Hash, that it has until February 15, 2000 to conclude its business. The Committee reached consensus on the definitions for Basic Life Support, Advanced Life Support (ALS) Level-1, ALS Level-2, and the criteria that the service must meet for the emergency response modifier amount to be paid.

During the October meeting, the Committee worked on defining the geographic and rural modifiers and establishing the relative values of the different levels of service.

The Committee's seventh meeting was held December 6 through December 8, 1999. The Committee reached consensus on the relative values to be used for the different levels of ambulance service to be modeled for evaluation purposes. The physicians' fee schedule GPCI (practice expense component) will be used as the ambulance fee schedule geographic adjuster. An additional payment will be made for ambulance services if the point of pickup is in a rural area. Rural is defined as a location in a non-Metropolitan Statistical Area (with Goldsmith modification, if possible). An additional payment for an emergency response will be paid if the condition as presented was an emergency condition and the supplier responded “immediately.”

The Committee's eighth meeting is scheduled for January 24 through January 26, 2000. It is expected that this meeting will focus on evaluating the results of the rural modifier and preparing the Committee's official report. The Committee is expected to conclude its work by February 14, 2000.

The purpose of this final meeting is to allow Committee members to officially conclude the business of the Committee by signing and finalizing the Committee's official report. No other agenda has been established.

In accordance with Federal Advisory Committee Act requirements, this meeting is open to the public with advanced registration preferred. Public attendance at the meeting may be limited to space available. Mail written statements to the following address: Federal Mediation and Conciliation Service, 2100 K Street, NW., Washington, DC 20427, Attention: Lynn Sylvester.

A summary of all proceedings will be available for public inspection in Room 443-G of the Department's offices at 200 Independence Avenue, SW., Washington, DC on Monday through Friday of each week from 8:30 a.m. to 5 p.m. (Phone: (202) 690-7890), and can be accessed through the HCFA Internet site at http://www.hcfa.gov/medicare/ambmain.htm. Additional information related to the Committee will also be available on the web site.

Authority: Section 1834(l) of the Social Security Act (42 U.S.C. 1395m).

(Catalog of Federal Domestic Assistance Program No. 93.774, Medicare—Supplementary Medical Insurance Program)
Dated: January 24, 2000.
Nancy-Ann Min DeParle,
Administrator, Health Care Financing Administration.

[FR Doc. 00-2042 Filed 1-27-00; 8:45 am]

BILLING CODE 4120-01-P